DEPARTMENT OF HEALTH AND HUMAN SERVICES

Centers for Disease Control and Prevention

[60Day-05-05BU]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 or send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Assessment and Monitoring of Breastfeeding-Related Maternity Care Practices in Intrapartum Care Facilities in the United States and Territories—New—National Center for Chronic Disease Prevention and Health Promotion (NCCDPHP), Centers for Disease Control and Prevention (CDC).

Background and Brief Description

There is substantial evidence on the social, economic and health benefits of breastfeeding for both the mother and infant and the importance of the health care system in promoting the initiation and maintenance of breastfeeding. Yet breastfeeding initiation rates and duration in the United States did not achieve Healthy People 2000 goals, and significant disparities continue to exist between African American and White women in breastfeeding rates. The Healthy People 2010 goals are to increase the proportion of mothers who breastfeed in the early postpartum period from 64% to 75%, the proportion who breastfeed their babies through 6 months of age from 29% to 50%, and to increase from 16% to 25% the proportion of mothers who breastfeed to 1 year of age (the first figure in each comparison is a 1998 estimate). In addition, Healthy People 2010 seeks to decrease the disparities in breastfeeding initiation, exclusivity, and duration between African American and White women. Along with ethnic and racial disparities, there is evidence of significant variation in state breastfeeding rates. For example, in 2003 the breastfeeding initiation rate in Louisiana was 46.4 percent and in Oregon was 88.8 percent.

One important and effective means to promote and support the initiation and maintenance of breastfeeding is through the health care system. The few studies on breastfeeding practices at intrapartum care facilities (facilities that manage and deliver care to women in labor) within individual states show significant variation in practices. However, with the data currently available it is not possible to assess and monitor breastfeeding-related practices and policies in hospitals and free-standing childbirth centers across the United States.

CDC plans to conduct an assessment of breastfeeding-related maternity care practices in intra-partum care facilities in the United States and Territories to provide information to individual facilities, state health departments, and CDC on the extent to which facilities are providing effective breastfeeding-related maternity care. The assessment will provide detailed information on general facility characteristics related to maternity care such as: facility management and support policies relevant to breastfeeding-related maternity care practices, practices relevant to the training of health care staff on breastfeeding instruction, rooming-in, infant supplementation, and discharge from facility. CDC will provide facility-specific information based on the assessment to the individual facilities and state-specific information to state health departments. The information from the survey can be used by facilities to evaluate and modify breastfeeding-related maternity care practices, and by states and CDC to inform and target programs and policies to improve breastfeeding-related maternity care practices at intrapartum care facilities.

Approximately 3,500 facilities providing maternity care in the United States and Territories will be mailed a survey every other year in this 4-year study. The survey will be administered for the first time in 2005 and for the second time in 2007. Survey content will be similar in each of the administrations to examine changes in practices and policies over time. It is expected that approximately 3,000 facilities will complete the fifteen minute questionnaire in each administration. The facilities will be identified from the American Hospital Association's (AHA) Annual Survey of Hospitals and the National Association of Childbearing Centers (NACC). A five minute screening telephone call will be made prior to survey administrations to all facilities identified as providing maternity care by AHA and NACC to ensure they are currently providing maternity care, to identify possible satellite clinics providing maternity care, and to identify survey respondents in each of the facilities. The respondents will have the option of either responding by mail or through a web-based system. The survey will provide detailed information about breastfeeding-related maternity care practices and policies at hospitals and free-standing birthing centers. There are no costs to respondents other than their time to respond.

Estimate of Annualized Burden Table
Questionnaire/respondents | Number of respondents | Number of responses/respondent | Average burden per response (in hours) | Total burden (in hours)
Screening call/facilities that have at least one registered maternity bed (2005) | 3,500 | 1 | 5/60 | 292
Mail survey/facilities providing maternity care in the past calendar year (2005) | 3,000 | 1 | 15/60 | 750
Screening call/facilities that have at least one registered maternity bed (2007) | 3,500 | 1 | 5/60 | 292
Mail survey/facilities providing maternity care in the past calendar year (2007) | 3,000 | 1 | 15/60 | 750
Total | 13,000 |  |  | 2,084

Dated: April 6, 2005.
Betsey Dunaway,
Acting Reports Clearance Officer, Centers for Disease Control and Prevention.

[FR Doc. 05-7385 Filed 4-12-05; 8:45 am]

BILLING CODE 4163-18-P